DEPARTMENT OF THE INTERIOR

National Park Service

[NPS-WASO-NRNHL-DTS#-32344; PPWOCRADI0, PCU00RP14.R50000]

National Register of Historic Places; Notification of Pending Nominations and Related Actions

AGENCY: National Park Service, Interior.

ACTION: Notice.

SUMMARY: The National Park Service is soliciting electronic comments on the significance of properties nominated before July 17, 2021, for listing or related actions in the National Register of Historic Places.

DATES: Comments should be submitted electronically by August 12, 2021.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before July 17, 2021. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

INDIANA

Allen County

Coca-Cola Bottling Plant, 1631 Pontiac St., Fort Wayne, SG100006841

Harrison Hill Historic District, (Park and Boulevard System of Fort Wayne, Indiana MPS), Roughly bounded by West Rudisill Blvd., South Calhoun St., South Cornell Cir., Pasadena Dr., Hoagland Ave., and Webster St., Fort Wayne, MP100006844

Dubois County

Maple Grove Campground, 6685 Cty. Rd. 585 West, Huntingburg vicinity, SG100006845

Fayette County

Newkirk Mansion, 321 Western Ave., Connersville, SG100006847

Grant County

Stephenson, Joseph W. and Edith M., House, 917 South Adams St., Marion, SG100006848

Lake County

North Gleason Park Community Building, 301 West 30th Ave., Gary, SG100006843

Monroe County

McDoel Historic District, Roughly bounded by West Wylie St., South Morton St., Patterson Dr., and Clear Cr., Bloomington, SG100006846

Vermillion County

Elder-Pyle House, 120 Briarwood Ave., Dana, SG100006842

NORTH CAROLINA

Carteret County

Earle W. Webb, Jr. Memorial Civic Center and Library, 812 Evans St., Morehead City, SG100006852

Forsyth County

Gray, Elizabeth and Bowman, Jr. House, 5909 Brookberry Farm Rd., Lewisville vicinity, SG100006853

Rowan County

Cannon, Ella Brown, House, 202 South Fulton St., Salisbury, SG100006854

Surry County

Pilot Hosiery Mill, 224 East Main St., Pilot Mountain, SG100006855

OHIO

Cuyahoga County

Consolidated Fruit Auction Company Building, 601 Stone's Levee, Cleveland, SG100006833

Hamilton County

South Crescent Arms, The, (Apartment Buildings in Ohio Urban Centers, 1870-1970 MPS), 3700 Reading Rd., Cincinnati, MP100006851

PENNSYLVANIA

Northampton County

Lehigh Water Gap Chain Bridge Toll House and East Bridge Abutment, 1309 Riverview Dr., Lehigh Township, SG100006837

TEXAS

Caldwell County

Martindale Central Historic District, Roughly bounded by Farm-to-Market Rd. 1979, San Marcos R., Madison Ln., and, Crockett St., Martindale, SG100006859

Kimble County

Kimble County Courthouse, 501 Main St., Junction, SG100006858

Washington County

Baylor University Female Department, 8415 Old Baylor College Rd., Independence, SG100006856

Baylor University Male Department, (Monuments and Buildings of the Texas Centennial MPS), 10060 Sam Houston Rd., Independence, MP100006857

VIRGINIA

Bedford County

Bedford Training School, 310 South Bridge St., Bedford, SG100006838

Susie G. Gibson High School, 600 Edmund St., Bedford, SG100006839

Campbell County

Grove, The, 151 Closeburn Manor Dr., Lynchburg vicinity, SG100006849

Rockbridge County

Taylor-Kinnear Farm, 1364 Forest Grove Rd., Lexington vicinity, SG100006850

WISCONSIN

Milwaukee County

Fifteenth District School, 2001 West Vliet St., Milwaukee, SG100006834

An additional documentation has been received for the following resources:

MASSACHUSETTS

Essex County

Rocky Neck Historic District (Additional Documentation), 1-5 Eastern Point Rd., 285 East Main St., Bickford Way, Clarendon, Fremont, Horton, Rackliffe Wiley and Wonson Sts., Gloucester, AD100001502

OHIO

Richland County

Kingwood Center (Additional Documentation), 900 Park Ave. West, Mansfield, AD76001523

Authority: Section 60.13 of 36 CFR part 60.

Dated: July 20, 2021.
Sherry A. Frear,
Chief, National Register of Historic Places/National Historic Landmarks Program.

[FR Doc. 2021-15996 Filed 7-27-21; 8:45 am]

BILLING CODE 4312-52-P